DEPARTMENT OF AGRICULTURE

Grain Inspection, Packers and Stockyards Administration (GIPSA)

Designation of Fremont Grain Inspection Department, Inc. To provide Class X or Class Y Weighing Services

AGENCY: Grain Inspection, Packers and Stockyards Administration, USDA.

ACTION: Notice.

SUMMARY: GIPSA is announcing the designation of Fremont Grain Inspection Department, Inc. (Fremont) to provide Class X or Class Y weighing services under the United States Grain Standards Act (USGSA), as amended.

DATES: Effective Date: November 9, 2016.

FOR FURTHER INFORMATION CONTACT: Sharon Lathrop, 816-891-0415, or FGIS.QACD@usda.gov.

SUPPLEMENTARY INFORMATION: In the August 24, 2016, Federal Register (81 FR 57884), GIPSA announced the designation of Fremont to provide official services under the USGSA, effective July 1, 2016, to June 30, 2021. Subsequently, Fremont asked GIPSA to amend their designation to include official weighing services. The USGSA authorizes the Secretary to designate authority to perform official weighing to an agency providing official inspection services within a specified geographic area, if such agency is qualified under 7 U.S.C. 79. Under 7 U.S.C. 79(a), GIPSA evaluated information regarding the designation criteria in section 7 U.S.C. 79 and determined that Fremont is qualified to provide official weighing services in their currently assigned geographic area.

Fremont's designation is amended to include Class X or Class Y weighing within their assigned geographic area, effective November 9, 2016, to June 30, 2021. Interested persons may obtain official services by contacting Fremont at (402) 721-1270.

Authority: 7 U.S.C. 71-87k.

Larry Mitchell,
Administrator, Grain Inspection, Packers and Stockyards Administration.

[FR Doc. 2017-00203 Filed 1-9-17; 8:45 am]

BILLING CODE 3410-KD-P